DEPARTMENT OF TRANSPORTATION

Federal Aviation Administration

14 CFR Part 39

[Docket No. FAA-2006-25098; Directorate Identifier 2006-SW-12-AD; Amendment 39-14667; AD 2006-13-14]

RIN 2120-AA64

Airworthiness Directives; Bell Helicopter Textron Canada Model 222, 222B, 222U, 230, and 430 Helicopters

AGENCY: Federal Aviation Administration, DOT.

ACTION: Final rule; request for comments.

SUMMARY: This amendment adopts a new airworthiness directive (AD) for the specified Bell Helicopter Textron Canada (BHTC) model helicopters. This action requires initial and repetitive inspections of each tail rotor counterweight bellcrank (bellcrank) with a specified part number and serial number. If external damage, a crack, roughness, or looseness between the bearing set and bellcrank is found or if bearing set axial play exceeds 0.015 inch, this action requires replacing the bellcrank with an airworthy bellcrank with two prefix letters in the serial number. This amendment is prompted by reports of failure and subsequent loss of a weighted portion of the bellcrank and reports of certain replacement bellcranks having design flaws. The actions specified in this AD are intended to prevent bellcrank failure, loss of a weighted portion of the bellcrank, and subsequent loss of control of the helicopter.

DATES: Effective July 11, 2006.

Comments for inclusion in the Rules Docket must be received on or before August 25, 2006.

ADDRESSES: Use one of the following addresses to submit comments on this AD:

• DOT Docket Web site: Go to http://dms.dot.gov and follow the instructions for sending your comments electronically;

• Government-wide rulemaking Web site: Go to http://www.regulations.gov and follow the instructions for sending your comments electronically;

• Mail: Docket Management Facility; U.S. Department of Transportation, 400 Seventh Street, SW., Nassif Building, Room PL-401, Washington, DC 20590;

• Fax: (202) 493-2251; or

• Hand Delivery: Room PL-401 on the plaza level of the Nassif Building, 400 Seventh Street, SW., Washington, DC, between 9 a.m. and 5 p.m., Monday through Friday, except Federal holidays.

You may get the service information identified in this AD from Bell Helicopter Textron Canada, 12,800 Rue de l'Avenir, Mirabel, Quebec J7J1R4, telephone (450) 437-2862 or (800) 363-8023, fax (450) 433-0272.

Examining the Docket

You may examine the docket that contains the AD, any comments, and other information on the Internet at http://dms.dot.gov, or in person at the Docket Management System (DMS) Docket Offices between 9 a.m. and 5 p.m., Monday through Friday, except Federal holidays. The Docket Office (telephone (800) 647-5227) is located on the plaza level of the Department of Transportation Nassif Building at the street address stated in the ADDRESSES section. Comments will be available in the AD docket shortly after the DMS receives them.

FOR FURTHER INFORMATION CONTACT: Sharon Miles, Aviation Safety Engineer, FAA, Rotorcraft Directorate, Regulations and Guidance Group, Fort Worth, Texas 76193-0111, telephone (817) 222-5122, fax (817) 222-5961.

SUPPLEMENTARY INFORMATION: This amendment adopts a new AD for the specified BHTC model helicopters. This action requires initial and repetitive inspections of certain bellcranks for external damage, a crack, looseness, or bearing set roughness by rotating each bellcrank while applying a load to the bearing set in both axial and radial directions. If external damage, a crack, roughness, or looseness between the bearing set and bellcrank is found or if the bearing axial play exceeds 0.015 inch, this action requires replacing the part with an airworthy bellcrank with two prefix letters in the serial number. This amendment is prompted by reports of failure and subsequent loss of a weighted portion of the ballcrank due to gas porosity in the casting or external damage. Also, this amendment is prompted by reports that certain replacement bellcranks have an oversize bearing bore as well as incorrectly applied cadmium plating. These conditions, if not corrected, could result in failure of the bellcrank, loss of a weighted portion of the bellcrank, and subsequent loss of control of the helicopter.

Transport Canada, the airworthiness authority for Canada, notified the FAA that an unsafe condition may exist on the specified BHTC model helicopters. Transport Canada advises that bellcrank, part number (P/N) 222-012-727-003 and 222-012-727-105, may have manufacturing discrepancies, which can result in their failure in flight. Transport Canada also advises that BHTC has identified correctly manufactured bellcrank, P/N 222-012-727-105, by adding two prefix letters to the part serial number.

BHTC has issued Alert Service Bulletin (ASB) Nos. 222-04-99, 222U-04-70, 230-04-30, and 430-04-30, all Revision C, all dated February 16, 2006. These ASBs specify replacing each bellcrank, P/N 222-012-727-003, with a bellcrank, P/N 222-012-727-105, with two prefix letters added to the part serial number by the manufacturer, by December 31, 2006. These ASBs also specify the correct bearing set, P/N 222-312-718-001, to be used when replacing the bellcrank.

After issuing the August 9, 2004 version of the previously described ASBs, BHTC received reports that replacement bellcrank, P/N 222-012-727-105, has an oversized bearing bore as well as incorrectly applied cadmium plating. BHTC then issued ASB 222-04-101, 222U-04-72, 230-04-32, and 430-04-32, all Revision B, all dated March 15, 2006. These ASBs specify replacing each bellcrank, P/N 222-012-727-105, without prefix letters, with an airworthy bellcrank, P/N 222-012-727-105, with two prefix letters added to the part serial number, by December 31, 2006. These ASBs specify certain inspections of each bellcrank, P/N 222-012-727-105, with no prefix letter added to the part serial number, until replaced with a bellcrank, P/N 222-012-717-105, with two prefix letters added to the part serial number.

Transport Canada classified these ASBs as mandatory and issued AD No. CF-2005-27R1, dated March 15, 2006, to ensure the continued airworthiness of these helicopters in Canada.

These helicopter models are manufactured in Canada and are type certificated for operation in the United States under the provisions of 14 CFR 21.29 and the applicable bilateral agreement. Pursuant to the applicable bilateral agreement, Transport Canada has kept the FAA informed of the situation described above. The FAA has examined the findings of Transport Canada, reviewed all available information, and determined that AD action is necessary for products of these type designs that are certificated for operation in the United States.

This unsafe condition is likely to exist or develop on other helicopters of these same type designs. Therefore, this AD is being issued to prevent a bellcrank failure, loss of a weighted portion of the bellcrank, and subsequent loss of control of the helicopter. This AD requires, within the next 10 hours time-in-service (TIS) and at intervals not to exceed 50 hours TIS, inspecting each bellcrank, P/N 222-012-727-003 and 222-012-727-105, without two prefix letters in the part serial number. This AD requires inspecting the bellcranks for external damage, cracking, looseness, or bearing set roughness by rotating the bellcrank while applying a load to the bearing set in both axial and radial directions. If you find external damage, cracking, looseness, roughness, or bearing set axial play exceeding 0.015 inch, this AD requires, before further flight, replacing the bellcrank with an airworthy bellcrank, P/N 222-012-727-105, with two prefix letters in the part serial number.

Replacing each bellcrank, P/N 222-012-727-003 and P/N 222-012-727-105, without two prefix letters in the part serial number, with bellcrank, P/N 222-012-727-105, with two prefix letters in the part serial number, is terminating action for the inspection requirements of this AD. We anticipate following this final rule; request for comments with a notice of proposed rulemaking to propose mandatory replacement of the specified bellcranks.

The short compliance time involved is required because the previously described critical unsafe condition can adversely affect the controllability or structural integrity of the helicopter. Inspecting each specified bellcrank within 10 hours TIS and at intervals not to exceed 50 hours TIS is required. Also, if you find external damage, cracking, roughness, looseness between bearing set and bellcrank or bearing set axial play exceeding 0.015 inch, replacing each unairworthy bellcrank with an airworthy bellcrank is required before further flight. Therefore, this AD must be issued immediately.

Since a situation exists that requires the immediate adoption of this regulation, it is found that notice and opportunity for prior public comment hereon are impracticable, and that good cause exists for making this amendment effective in less than 30 days.

We estimate that this AD will affect 167 helicopters and will take about 1 work hour to inspect the bellcrank and require 13 inspections per year at an average labor rate of $80 per work hour. Required parts will cost about $1,784 per helicopter. This AD does not mandate replacing the bellcrank. However, the manufacturer states that it is offering 100 percent warranty for replacing the bellcrank and bearing set by December 31, 2006, if certain requirements are met. Based on these figures, the estimated total cost impact of the AD on U.S. operators is $471,608, assuming all helicopters require inspections and all affected parts are replaced at the end of first year.

Comments Invited

This AD is a final rule that involves requirements that affect flight safety and was not preceded by notice and an opportunity for public comment; however, we invite you to submit any written data, views, or arguments regarding this AD. Send your comments to an address listed under ADDRESSES. Include “Docket No. FAA-2006-25098; Directorate Identifier 2006-SW-12-AD” at the beginning of your comments. We specifically invite comments on the overall regulatory, economic, environmental, and energy aspects of the AD. We will consider all comments received by the closing date and may amend the AD in light of those comments.

We will post all comments we receive, without change, to http://dms.dot.gov, including any personal information you provide. We will also post a report summarizing each substantive verbal contact with FAA personnel concerning this AD. Using the search function of our docket Web site, you can find and read the comments to any of our dockets, including the name of the individual who sent the comment. You may review the DOT's complete Privacy Act Statement in the Federal Register published on April 11, 2000 (65 FR 19477-78), or you may visit http://dms.dot.gov.

Regulatory Findings

We have determined that this AD will not have federalism implications under Executive Order 13132. This AD will not have a substantial direct effect on the States, on the relationship between the National Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD. See the DMS to examine the economic evaluation.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2006-13-14 Bell Helicopter Textron Canada: Amendment 39-14667. Docket No. FAA-2006-25098; Directorate Identifier 2006-SW-12-AD.

Applicability

Models 222, serial number (S/N) 47006 through 47089; 222B, S/N 47131 through 47156; 222U, S/N 47501 through 47574; 230, S/N 23001 through 23038; and 430, S/N 49001 through 49105, with tail rotor counterweight bellcrank (bellcrank), part number (P/N) 222-012-727-003 or 222-012-727-105, without two prefix letters in the serial number, installed, certificated in any category.

Compliance

Required as indicated.

To prevent bellcrank failure, loss of a weighted portion of the bellcrank, and subsequent loss of control of the helicopter, accomplish the following:

(a) Within the next 10 hours time-in-service (TIS), unless done previously, and at intervals not to exceed 50 hours TIS:

(1) Inspect each bellcrank for external damage, cracking, looseness, or bearing set roughness by rotating the bellcrank while applying a load to the bearing set in both axial and radial directions.

(2) If a bellcrank has external damage, cracking, roughness, looseness between the bearing set and bellcrank or bearing set axial play exceeding 0.015 inch, before further flight, replace it with bellcrank, P/N 222-012-727-105, with two prefix letters in the part serial number.

Note 1: The following Bell Helicopter Textron Canada Alert Service Bulletins pertain to the subject of this AD: Nos. 222-04-99, 222U-04-70, 230-04-30, and 430-04-30, all Revision C, all dated February 16, 2006; and Nos. 222-04-101, 222U-04-72, 230-04-32, and 430-04-32, all Revision B, all dated March 15, 2006.

(b) Replacing each bellcrank, P/N 222-012-727-003 and P/N 222-012-727-105, without two prefix letters in the part serial number, with a bellcrank, P/N 222-012-727-105, with two prefix letters in the part serial number, is terminating action for the inspection requirements of this AD.

(c) To request a different method of compliance or a different compliance time for this AD, follow the procedures in 14 CFR 39.19. Contact the Manager, Rotorcraft Directorate, Regulations and Guidance Group, FAA, ATTN: Sharon Miles, Aviation Safety Engineer, Fort Worth, Texas 76193-0111, telephone (817) 222-5122, fax (817) 222-5961, for information about previously approved alternative methods of compliance.

(d) This amendment becomes effective on July 11, 2006.

Note 2: The subject of this AD is addressed in Transport Canada (Canada) AD CF-2005-27R1, dated March 15, 2006.

Issued in Fort Worth, Texas, on June 16, 2006.
Mark R. Schilling,
Acting Manager, Rotorcraft Directorate, Aircraft Certification Service.

[FR Doc. 06-5651 Filed 6-23-06; 8:45 am]

BILLING CODE 4910-13-P